NUCLEAR REGULATORY COMMISSION

[Docket No. 03032042; NRC-2012-0219]

License Amendment Request for the U.S. Department of the Army, National Ground Intelligence Center, Charlottesville, VA

AGENCY: Nuclear Regulatory Commission.

ACTION: Environmental assessment and finding of no significant Impact; issuance.

SUMMARY: The U.S. Nuclear Regulatory Commission (NRC or the Commission) is considering the issuance of a license renewal and amendment to Byproduct Materials License No. 45-25134-01. This license is held by the U.S. Department of the Army, National Ground Intelligence Center (the licensee), for activities conducted at the facilities located in Charlottesville, Virginia; Aberdeen Proving Ground, Maryland; and temporary jobsites anywhere in the United States.

ADDRESSES: Please refer to Docket ID NRC-2012-0219 when contacting the NRC about the availability of information regarding this document. You may access information related to this document, which the NRC possesses and are publicly-available, using any of the following methods:

• Federal Rulemaking Web site: Go to http://www.regulations.gov and search for Docket ID NRC-2012-0219. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Dennis Lawyer, Health Physicist, Commercial and R&D Branch, Division of Nuclear Materials Safety, Region I, 2100 Renaissance Blvd., Suite 100, King of Prussia, Pennsylvania 19406. Telephone: 610-337-5366; fax number: 610-337-5269; email: Dennis.Lawyer@nrc.gov.

SUPPLEMENTARY INFORMATION:

I. Background

As part of its license renewal, the licensee has requested an exemption from the requirement in 10 CFR 30.32(g) to list sealed sources by their manufacturer and model number as registered under the provisions of section 10 CFR 32.210 of Title 10, Code of Federal Regulations (10 CFR). The licensee requested this exemption in a letter dated October 19, 2011. The NRC has prepared an Environmental Assessment (EA) in support of this proposed action in accordance with the requirements in 10 CFR part 51. Based on the EA, the NRC has concluded that a Finding of No Significant Impact (FONSI) is appropriate with respect to the proposed action. The license renewal and amendment, addressing the approval of the exemption request, will be issued to the licensee following the publication of this FONSI and EA in the Federal Register.

II. Environmental Assessment

Identification of Proposed Action

The proposed action would renew License No. 45-25134-01 and grant a license amendment, approving of the licensee's request for exemption dated, October 19, 2011. License No. 45-25134-01 was issued on February 25, 1991, pursuant to 10 CFR Parts 30, 40, and 70, and has been amended periodically since that time. This license authorizes the licensee to receive, store, use and transfer specified radioactive materials incident to research and development as defined in 10 CFR 30.4. On June 20, 2011, the licensee submitted its renewal application for License No. 45-25134-01. In a letter dated October 19, 2011, submitted in response to an inquiry from the NRC, the licensee requested an exemption from the requirement in 10 CFR 30.32(g) to list sealed sources by their manufacturer and model number as registered under the provisions of 10 CFR 32.210. In requesting this exemption, the licensee states that the purpose of possessing the sealed sources is to “remove and store devices of foreign manufacture for further testing and evaluation.” The licensee receives material in the form of painted disks, sealed tubes, sealed calibration sources, plated foils, and other previously manufactured military and civilian commodities primarily of foreign origin. Typically, the licensee receives two or less sources per year. These sources normally consist of less than one curie of tritium and less than one millicurie of radium 226 per year. The material is disposed unless it is integral to the functioning of the obtained system. The research and development performed involves testing for functional and operational characteristics. No fabrication using loose or unsealed materials is conducted. No willful destructive testing of items containing radioactive materials will be conducted under this license. If destructive testing is requested it will be conducted by other agencies under separate NRC license. The licensee does not know in advance what sources or devices may be received at its facility and that, in the interest of national security and the U.S. Department of Defense policy, the sources or origin of foreign equipment should not be revealed. The licensee's policy requires immediate survey of all foreign items for radioactive material and coordination with disposal organizations if radioactive contamination is found.

Need for the Proposed Action

The licensee receives and takes possession of sealed sources and devices which have not been registered with the NRC under 10 CFR 32.210 or with an Agreement State. As these sources and devices are from foreign manufacturers, are not obtained for commercial purposes, and will not be subject to registration, the licensee would not be able to possess these sources as sealed sources without this exemption.

Technical Analysis of the Proposed Action

Paragraph 10 CFR 30.11(a) states that the Commission may grant such exemptions from the requirements of the regulations as it determines are authorized by law, will not endanger life or property or the common defense and security, and are otherwise in the public interest. The NRC staff has analyzed the licensee's request to be authorized to receive and take possession of sealed sources and devices which have not been registered with the NRC under 10 CFR 32.210 or with an Agreement State. The NRC staff has determined that the licensee has established and implemented training requirements for issuance of a Type A specific license of broad scope as specified in 10 CFR Part 33. This licensee has sufficient training to handle these sources and devices. Furthermore, NRC inspections have evaluated the licensee's performance and determined that the licensee has safely handled these unregistered sources for many years. Prior to this renewal, the license did not require the licensee to specify registered manufacturers and models. Accordingly, the NRC staff has concluded that granting this exemption is authorized by law, will not endanger life or property or the common defense and security, and is in the public interest.

Environmental Impacts of the Proposed Action

The proposed action is largely administrative in nature. Approving this exemption will have a small environmental impact. Typically, the licensee receives two or less sources per year. These sources normally consist of less than one curie of tritium and less than one millicurie of radium 226 per year. This amount would ultimately be disposed at the same rate.

Environmental Impacts of the Alternative to the Proposed Action

Due to the largely administrative nature of the proposed action, its environmental impacts are small. Additionally, denying the exemption request would result in no change in current environmental impacts. If the exemption request was denied and the amendment was not granted the licensee would need to request an amendment to authorize possession of the material in “any” form. This would authorize the licensee to possess radioactive materials regardless of its form. The environmental impacts of the proposed action and the no-action alternative are therefore similar, and the no-action alternative is accordingly not further considered.

Conclusion

The NRC staff has concluded that the proposed action will not significantly impact the quality of the human environment. The NRC staff concludes that the proposed action is the preferred alternative.

Agencies and Persons Consulted

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license renewal and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

Application for License Renewal dated, June 20, 2011 [ML12090A516]

Request for Exemption, letter dated, October 19, 2011 [ML112940589]

If you do not have access to ADAMS, or if there are problems in accessing the documents located in ADAMS, contact the NRC Public Document Room (PDR) Reference staff at 1-800-397-4209, 301-415-4737, or by email to PDR.Resource@nrc.gov.

These documents may also be viewed electronically on the public computers located at the NRC's PDR, O1F21, One White Flint North, 11555 Rockville Pike, Rockville, MD 20852. The PDR reproduction contractor will copy documents for a fee.

Dated at Region I, 2100 Renaissance Blvd., Suite 100, King of Prussia, PA, this September 10th, 2012.
For the Nuclear Regulatory Commission.
Judith Joustra,
Chief, Commercial and R&D Branch, Division of Nuclear Materials Safety, Region I.

[FR Doc. 2012-23558 Filed 9-24-12; 8:45 am]

BILLING CODE 7590-01-P